DEPARTMENT OF HOMELAND SECURITY

Federal Emergency Management Agency

44 CFR Part 67

Final Flood Elevation Determinations

AGENCY: Federal Emergency Management Agency (FEMA), Emergency Preparedness and Response Directorate, Department of Homeland Security.

ACTION: Final rule.

SUMMARY: Base (1% annual chance) Flood Elevations (BFEs) and modified BFEs are made final for the communities listed below. The BFEs and modified BFEs are the basis for the floodplain management measures that each community is required either to adopt or to show evidence of being already in effect in order to qualify or remain qualified for participation in the National Flood Insurance Program (NFIP).

EFFECTIVE DATES: The date of issuance of the Flood Insurance Rate Map (FIRM) showing BFEs and modified BFEs for each community. This date may be obtained by contacting the office where the maps are available for inspection as indicated on the table below.

ADDRESSES: The final BFEs for each community are available for inspection at the office of the Chief Executive Officer of each community. The respective addresses are listed in the table below.

FOR FURTHER INFORMATION CONTACT: Doug Bellomo, P.E., Hazard Identification Section, Emergency Preparedness and Response Directorate, FEMA, 500 C Street, SW., Washington, DC 20472, (202) 646-2903.

SUPPLEMENTARY INFORMATION: FEMA makes the final determinations listed below for the modified BFEs for each community listed. These modified elevations have been published in newspapers of local circulation and ninety (90) days have elapsed since that publication. The Mitigation Division Director of the Emergency Preparedness and Response Directorate, has resolved any appeals resulting from this notification.

This final rule is issued in accordance with section 110 of the Flood Disaster Protection Act of 1973, 42 U.S.C. 4104, and 44 CFR part 67.

The Agency has developed criteria for floodplain management in floodprone areas in accordance with 44 CFR part 60.

Interested lessees and owners of real property are encouraged to review the proof Flood Insurance Study and FIRM available at the address cited below for each community.

The BFEs and modified BFEs are made final in the communities listed below. Elevations at selected locations in each community are shown.

National Environmental Policy Act. This rule is categorically excluded from the requirements of 44 CFR part 10, Environmental Consideration. No environmental impact assessment has been prepared.

Regulatory Flexibility Act. The Mitigation Division Director of the Emergency Preparedness and Response Directorate certifies that this rule is exempt from the requirements of the Regulatory Flexibility Act because final or modified BFEs are required by the Flood Disaster Protection Act of 1973, 42 U.S.C. 4104, and are required to establish and maintain community eligibility in the NFIP. No regulatory flexibility analysis has been prepared.

Regulatory Classification. This final rule is not a significant regulatory action under the criteria of section 3(f) of Executive Order 12866 of September 30, 1993, Regulatory Planning and Review, 58 FR 51735.

Executive Order 12612, Federalism. This rule involves no policies that have federalism implications under Executive Order 12612, Federalism, dated October 26, 1987.

Executive Order 12778, Civil Justice Reform. This rule meets the applicable standards of section 2(b)(2) of Executive Order 12778.

List of Subjects in 44 CFR Part 67

Administrative practice and procedure, flood insurance, reporting and recordkeeping requirements.

Accordingly, 44 CFR part 67 is amended as follows:

PART 67 [AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Source of flooding and location | # Depth in feet above ground. * Elevation in feet (NGVD) • Elevation in feet (NAVD)
ILLINOIS
DuPage County (FEMA Docket No. D-7568)
Des Plaines River:
At southern County boundary along Chicago Sanitary Canal | * 594
At southern County boundary along Chicago Sanitary Canal | * 595
———
DuPage County (Unincorporated Areas), Village of Lemont
West Branch Tributary No. 4:
Approximately 600 feet upstream of Timber Lane | * 744
Approximately 925 feet upstream of Timber Lane | *744
Village of Carol Stream
East Branch Tributary No. 2:
Approximately 250 feet upstream of the confluence with East Branch DuPage River | * 694
Approximately 1,400 feet upstream of Main Street | * 723
Village of Glendale Heights
Ginger Creek:
At confluence with Salt Creek | * 655
Approximately 1,000 feet upstream of Myers Road | * 699
Village of Oak Brook
Mays Lake Tributary:
Approximately 1,350 feet upstream of confluence with Ginger Creek | * 672
Approximately 1,565 feet upstream of Mays Lake Culvert | * 718
Village of Oak Brook
Briarwood Ditch:
Approximately 1,200 feet upstream of confluence with Ginger Creek | * 671
Approximately 500 feet upstream of Kingston Road | * 672
Village of Oak Brook
Midwest Club Tributary:
At confluence with Ginger Creek | *696
Approximately 550 feet upstream of Oak Brook Road | *702
Village of Oak Brook
Lombard Tributary:
Approximately 500 feet upstream of confluence with Ginger Creek | *701
Approximately 670 feet upstream of Royal Valley Drive | *703
Village of Oak Brook
Heritage Oaks Tributary:
At the confluence with Ginger Creek | *699
Approximately 750 feet upstream of Ginger Creek | *699
Salt Creek:
Approximately 100 feet upstream of York Road | *645
Downstream side of Frontage Road | *662
Village of Oak Brook, City of Oak Brook Terrace
Midwest Club Tributary Ponding Area:
Approximately 50 feet southwest of the intersection of CT 20 and Midwest Club Parkway | *702
Village of Oak Brook
For all communities listed above, maps are available for inspection at the DuPage County Department of Development and Environmental Concerns, 2nd floor, 421 North County Farm Road, Wheaton, Illinois.
KENTUCKY
Boyd County (FEMA Docket No. D-7590)
Ohio River:
Approximately 0.8 mile upstream of the downstream county boundary | *546
At upstream county boundary | *549
City of Ashland, City of Catlettsburg, Boyd County (Unincorporated Areas)
Keys Creek:
From the confluence with Ohio River | *549
Just upstream of Catlett Creek Road | *549
City of Ashland, Boyd County (Unincorporated Areas)
City of Ashland
Maps available for inspection at the Ashland Department of Planning and Community Development, 1700 Greenup Avenue, Room 208, Ashland, Kentucky.
City of Catlettsburg
Maps available for inspection at the Catlettsburg City Hall, 216 26th Street, Catlettsburg, Kentucky.
Boyd County (Unincorporated Areas)
Maps available for inspection at the Boyd County Courthouse, 2800 Louisa Street, Catlettsburg, Kentucky.
———
Bracken County (FEMA Docket No. D-7590)
Ohio River:
At the downstream County boundary | * 506
Approximately 125 feet upstream of the upstream County boundary | * 512
City of Augusta, Bracken County (Unincorporated Areas)
Bracken Creek:
At the confluence with the Ohio River | * 510
Approximately 1,100 feet upstream of State Route 8 | * 510
Bracken County (Unincorporated Areas)
City of Augusta
Maps available for inspection at the Augusta City Office, 219 Main Street, Augusta, Kentucky.
Bracken County (Unincorporated Areas)
Maps available for inspection at the Bracken County Courthouse, 116 West Miami, Brooksville, Kentucky.
———
Bullitt County (FEMA Docket No. D-7592)
Brooks Run:
At the confluence with Floyds Fork | • 454
Approximately 200 feet upstream of State Route 1020 | • 515
Bullitt County (Unincorporated Areas), City of Fox Chase, City of Hillview, City of Pioneer Village
Brier Creek:
A ponding area extending from the confluence with Pond Creek to approximately 1,520 feet upstream of the Railroad | • 431
Bullitt County (Unincorporated Areas)
Bullitt Lick Creek—Mud Run:
At the confluence with Salt River | • 447
Approximately 565 feet upstream of Blue Lick Creek Road | • 447
City of Shepherdsville
Floyds Fork:
At the confluence with Salt River | • 450
Approximately 3.3 miles upstream of State Highway 44 | • 454
City of Hillview, City of Shepherdsville
Knob Creek:
At the confluence with Pond Creek | • 431
Approximately 1.3 miles upstream of State Route 44 | • 456
Bullitt County (Unincorporated Areas)
Knob Creek Tributary:
At the confluence with Knob Creek | • 444
Approximately 1 mile upstream of Shuffet Lane | • 494
Long Lick Creek:
At the confluence with Salt River | • 446
Approximately 4,100 feet upstream of Happy Hallow Road | • 487
Ohio River:
At the confluence of Salt River | • 443
Approximately 1.4 miles upstream of the confluence of Salt River | • 443
Pond Creek:
A ponding area extending from the pump station to the confluence of Brier Creek | • 431
Salt River:
At the confluence of Bullitt Lick Creek | •447
Approximately 1.1 miles upstream of the confluence of Bullitt Lick Creek | •447
Bullitt County (Unincorporated Areas) |
Whittaker Run:
At the confluence with Salt River | •461
Approximately 700 feet upstream of U.S. Route 31 East | •490
Bullitt County (Unincorporated Areas)
Maps available for inspection at the Bullitt County Planning Commission, 214 Frank E. Simon Avenue, Shepherdsville, Kentucky.
City of Fox Chase
Maps available for inspection at the Fox Chase City Hall, 4814 Fox Chase Drive, Shepherdsville, Kentucky.
City of Hillview
Maps available for inspection at the Hillview City Hall, 298 Prairie Drive, Louisville, Kentucky.
City of Pioneer Village
Maps available for inspection at the Pioneer Village City Hall, 4700 Summitt Drive, Louisville, Kentucky.
City of Shepherdsville
Maps available for inspection at the Shepherdsville City Hall, 170 Frank E. Simon Avenue, Shepherdsville, Kentucky.
———
Campbell County (FEMA Docket No. D-7590)
Ohio River:
Approximately 4.1 miles upstream of Louisville and Nashville Railroad Bridge | *501
At upstream County boundary | *506
Cities of California, Fort Thomas, Melbourne, Mentor and Silver Grove, and Campbell County (Unincorporated Areas)
Moock Road Tributary:
Approximately 100 feet upstream of Bentwood Hills Drive | *502
Approximately 2,050 feet upstream of Bentwood Hills Drive | *521
City of Southgate |
Four Mile Creek:
Approximately 900 feet upstream of the confluence of Owl Creek | *503
Approximately 0.6 mile upstream of the confluence of Owl Creek | *503
City of Melbourne
Woodlawn Creek:
Approximately 325 feet downstream of the confluence of Woodlawn Creek Tributary 2 | *517
Approximately 450 feet upstream of Wilson Road | *518
City of Woodlawn |
Woodlawn Creek Tributary 2:
Approximately 225 feet upstream of the confluence with Woodlawn Creek | *517
Approximately 340 feet downstream of Grand Avenue | *517
City of Woodlawn
City of California
Maps available for inspection at the California City Clerk's Office, 45 Madison Street, California, Kentucky.
Campbell County (Unincorporated Areas)
Maps available for inspection at the Campbell County Fiscal Court, Planning and Zoning Department, 24 West Fourth Street, Newport, Kentucky.
City of Fort Thomas
Maps available for inspection at the Fort Thomas City Office, 130 North Fort Thomas Avenue, Fort Thomas, Kentucky.
City of Melbourne
Maps available for inspection at the Melbourne City Hall, 502 Garfield Avenue, Melbourne, Kentucky.
City of Mentor
Maps available for inspection at the Campbell County Fiscal Court, Planning and Zoning Department, 24 West Fourth Street, Newport, Kentucky.
City of Silver Grove
Maps available for inspection at the Silver Grove City Hall, 308 Oak Street, Silver Grove, Kentucky.
City of Southgate
Maps available for inspection at the Southgate City Hall, 122 Electric Avenue, Southgate, Kentucky.
City of Woodlawn
Maps available for inspection at the Campbell County Fiscal Court, Planning and Zoning Department, 24 West Fourth Street, Newport, Kentucky.
———
Greenup County (FEMA Docket No. D-7590)
Ohio River:
Approximately 1.2 miles upstream of downstream County boundary | *536
At upstream County boundary | *546
Cities of Greenup, Russell, Worthington, Wurtland, and Greenup County (Unincorporated Areas)
Lower White Oak Creek:
At the confluence with Tygarts Creek | *537
Approximately 1,660 feet upstream of State Highway 1134 | *537
Greenup County (Unincorporated Areas)
White Oak Creek:
Approximately 325 feet downstream of U.S. Highway 23 | *546
Approximately 330 feet downstream of State Route 693 | *546
Cities of Bellefonte and Russell
Tygarts Creek:
Entire length within community | *537
Greenup County (Unincorporated Areas)
City of Bellefonte
Maps available for inspection at the Bellefonte City Hall, 705 Bellefonte Princess Road, Ashland, Kentucky.
Greenup County (Unincorporated Areas)
Maps available for inspection at the Greenup County Courthouse, Room 102, Greenup, Kentucky.
City of Greenup
Maps available for inspection at the Greenup City Hall, 1005 Walnut Street, Greenup, Kentucky.
City of Russell
Maps available for inspection at the Russell City Hall, 410 Ferry Street, Russell, Kentucky.
City of Worthington
Maps available for inspection at the Worthington City Hall, 512 Ferry Street, Worthington, Kentucky.
City of Wurtland
Maps available for inspection at the Wurtland City Hall, 500 Wurtland Avenue, Wurtland, Kentucky.
———
Lewis County (FEMA Docket No. D-7590)
Ohio River:
Approximately 0.5 mile upstream of the County boundary | *519
Approximately 4.7 miles downstream of the County boundary | *534
Town of Concord, City of Vanceburg, Lewis County (Unincorporated Areas)
Kinniconick Creek:
Approximately .07 mile downstream of McDowell Creek Road | *533
Approximately 8 miles upstream of State Route 59 | 678
Lewis County (Unincorporated Areas)
Town of Concord
Maps available for inspection at the Concord Town Hall, Route 2, Vanceburg, Kentucky.
Lewis County (Unincorporated Areas)
Maps available for inspection at the Lewis County Courthouse, 514 Second Street, Vanceburg, Kentucky.
City of Vanceburg
Maps available for inspection at the Vanceburg City Hall, 615 2nd Street, Vanceburg, Kentucky.
———
Mason County (FEMA Docket No. D-7590)
Ohio River:
Approximately 0.28 mile downstream of *512 the downstream county boundary | *512
Approximately 0.04 mile upstream of the upstream county boundary | *518
City of Dover, City of Maysville, Mason County (Unincorporated Areas)
City of Dover
Maps available for inspection at the Dover City Hall, 2060 Lucretia Street, Dover, Kentucky.
Mason County (Unincorporated Areas)
Maps available for inspection at the Mason County Judge/Executive's Office, 219 Court Street, Maysville, Kentucky.
City of Maysville
Maps available for inspection at the Maysville City Hall, 216 Bridge Street, Maysville, Kentucky.
———
Pendleton County (FEMA Docket No. D-7584)
Ohio River:
Approximately 475 feet downstream of the downstream county boundary | *506
Approximately 425 feet upstream of the upstream county boundary | *506
Pendleton County (Unincorporated Areas)
Licking River:
At the confluence of Grassy Creek | *530
Approximately 1.09 miles upstream of State Route 22 | *556
South Fork Licking River:
At the confluence with Licking River | *555
Approximately 1.32 miles upstream of U.S. Route 27 | *559
Pendleton County (Unincorporated Areas)
Maps available for inspection at the Pendleton County Judge's Office, 233 Main Street, Falmouth, Kentucky.
NORTH CAROLINA
Camden County (FEMA Docket No. D-7584)
Areneuse Creek:
At the upstream side of NC 343 | *6
Approximately 150 feet downstream of Smith Corner Road | *6
Camden County (Unincorporated Areas)
Joyce Creek:
At the confluence with Dismal Swamp Canal | *6
Approximately 100 feet upstream of Keeter Barn Road | *9
Joyce Creek Tributary 1:
At the confluence with Joyce Creek | *7
Approximately 1.8 miles upstream of the confluence with Joyce Creek | *8
Mill Dam Creek:
At NC 343 | *6
Approximately 1.0 miles upstream of Ivy Neck Road | *6
Mill Dam Creek Tributary 1:
At the confluence with Mill Dam Creek | *6
Approximately 60 feet downstream of NC 343 | *6
Mill Dam Creek Tributary 2:
At the confluence with Mill Dam Creek | *6
Approximately 0.7 mile upstream of Mercer Drive | *7
Mill Dam Creek Tributary 3:
At the confluence with Mill Dam Creek | *6
Approximately 0.3 mile upstream of Ivy Neck Road | *6
Mill Dam Creek Tributary 4:
At the confluence with Mill Dam Creek | *6
Approximately 0.7 mile upstream of Bushell Road | *6
Pasquotank River:
Approximately 5.9 miles upstream of the confluence of Sawyers Creek | *5
Approximately 8.1 miles upstream of Morgans Corner Road | *13
Sawyers Creek:
At the downstream side of Scotland Road | •5
Approximately 0.6 mile upstream of Trafton Road | •8
Sawyers Creek Tributary 2:
At U.S. Highway 158/NC 34 | •5
Approximately 1.3 miles upstream of U.S. Highway 158/NC 34 | •6
Sawyers Creek Tributary 3:
At the downstream side of U.S. Highway 158/NC 34 | •5
Approximately 0.5 mile upstream of U.S. Highway 158/NC 34 | •6
Sawyers Creek Tributary 4:
At the downstream side of Scotland Road | •5
Approximately 1,600 feet upstream of Scotland Road | •6
Sawyers Creek Tributary 5:
At the confluence with Sawyers Creek | •5
Approximately 400 feet downstream of Bourbon Street | •6
Camden County (Unincorporated Areas)
Maps available for inspection at the Camden County Offices, 117 North NC 343, Camden, North Carolina.
———
Pasquotank County (FEMA Docket No. D-7584)
East Branch Knobbs Creek Tributary:
At West Ehringhaus Street | •8
Approximately 550 feet upstream of Roanoke Avenue | •9
City of Elizabeth City, Pasquotank County (Unincorporated Areas)
Halls Creek:
Approximately 0.5 mile upstream of Halls Creek Road | •6
Approximately 0.3 mile upstream of Simpson Ditch Road | •9
Pasquotank County (Unincorporated Areas)
Halls Creek Tributary 1:
At the confluence with Halls Creek | •6
Approximately 2.0 miles upstream of the confluence with Halls Creek | •9
Knobbs Creek:
At Creek Road | •6
Approximately 0.6 mile upstream of Berea Church Road | •7
City of Elizabeth City, Pasquotank County (Unincorporated Areas)
Knobbs Creek Tributary:
Approximately 0.2 mile upstream of Providence Road | •7
Approximately 0.8 mile upstream of U.S. Highway 17 | •9
Little River:
Approximately 1.4 miles upstream of U.S. Highway 17 | •9
Approximately 2.7 miles upstream of Foreman Bundy Road | •10
Pasquotank County (Unincorporated Areas)
New Begun Creek:
At Florida Road | •5
Approximately 250 feet downstream Pitts Chapel Road | •6
Newland Drainage Canal:
At the confluence with Pasquotank River | •7
Approximately 500 feet downstream of Newland Road | •14
Newland Drainage Canal Tributary 1:
At the confluence with Newland Drainage Canal | •7
Approximately 0.4 mile upstream of Brothers Lane | •11
Newland Drainage Canal Tributary 1A:
At the confluence with Newland Drainage Canal Tributary 1 | •7
Approximately 500 feet downstream of Blindman Road | •8
Pasquotank River:
Approximately 9.1 miles upstream of U.S. Highway 158 | •5
Approximately 6.6 miles upstream of the confluence with Newland Drainage Canal | •13
Pasquotank River Tributary 3:
At the confluence with Pasquotank River | •6
Approximately 500 feet downstream of U.S. Highway 17 | •10
Symonds Creek:
Just upstream of Nixonton Road | •5
Approximately 0.4 mile upstream of Nixonton Road | •6
Symonds Creek Tributary 2:
At the confluence with Symonds Creek | •5
Approximately 0.8 mile upstream of the confluence with Symonds Creek | •6
Pasquotank County (Unincorporated Areas)
City of Elizabeth City
Maps available for inspection at the Elizabeth City Inspections Department, 306 East Colonial Avenue, Elizabeth City, North Carolina.
Pasquotank County (Unincorporated Areas)
Maps available for inspection at the Pasquotank County Planning Department, 206 East Main Street, 2nd Floor, Elizabeth City, North Carolina.
SOUTH CAROLINA
Charleston County (FEMA Docket No. D-7578)
Charleston Harbor/Atlantic Ocean:
Approximately 500 feet east along Clearview Drive from the intersection of Clearview Drive and Beauregard Street | *13
Approximately 0.9 mile southwest of the intersection of Garland Road and Bay View Drive | *17
Charleston County (Unincorporated Areas), Town of Mount Pleasant, City of Charleston
Wando River/Atlantic Ocean:
Approximately 2,000 feet west of the intersection of Sugar Cane Way and 6th Street | *13
Approximately 1,800 feet north of the intersection of Molasses Lane and Hobcaw Drive | *16
Town of Mount Pleasant, City of Charleston
Ashley River/Atlantic Ocean:
Approximately 0.4 mile east of the intersection of Albemarle Road and Ashley Point Road | *13
Approximately 1,600 feet east of the intersection of Mill Street and Albemarle Road | *16
City of North Charleston, City of Charleston
Cooper River/Atlantic Ocean:
Approximately 0.8 mile southeast of the intersection of Partridge Avenue and Juneau Street | *12
At the confluence with Wando River and Charleston Harbor | *17
City of North Charleston, City of Charleston
Charleston County (Unincorporated Areas)
Maps available for inspection at the Charleston County Building Services, 4045 Bridge View Drive, North Charleston, South Carolina 29405-7464.
City of Charleston
Maps available for inspection at the Charleston City Hall, 75 Calhoun Street, Division 301, Charleston, South Carolina 29401.
City of North Charleston
Maps available for inspection at the North Charleston City Hall, 4900 Lacrosse Road, North Charleston, South Carolina 29406-6501.
———
Greenville County (FEMA Docket No. D-7578)
Big Durbin Creek Tributary 1:
At the confluence with Big Durbin Creek | •787
Approximately 650 feet upstream of the confluence with Big Durbin Creek | •789
Greenville County (Unincorporated Areas), City of Simpsonville
Gilder Creek:
At the confluence with Enoree River | •676
Approximately 450 feet upstream of McDougal Court | •907
Greenville County (Unincorporated Areas), City of Mauldin
Gilder Creek Tributary 1:
At the confluence with Gilder Creek | •813
Approximately 750 feet upstream of the confluence with Gilder Creek | •815
City of Mauldin
Gilder Creek Tributary 2:
At the confluence with Gilder Creek | •825
Approximately 550 feet upstream of the confluence with Gilder Creek | •825
Gilder Creek Tributary 3:
At the confluence with Gilder Creek | •825
Approximately 1,500 feet upstream of the confluence with Gilder Creek | •827
Gilder Creek Tributary 3A:
Approximately 50 feet upstream of the confluence with Gilder Creek Tributary 3 | •829
Approximately 150 feet upstream of U.S. Interstate 385 | •890
Gilder Creek Tributary 4:
At confluence with Gilder Creek | •798
Approximately 1,085 feet upstream of Substation Dam | •931
Baker Creek:
At the confluence with Huff Creek | •693
Approximately 190 feet upstream of Greybridge Road | •780
Greenville County (Unincorporated Areas)
Brushy Creek Tributary 2:
At the confluence with Brushy Creek | •841
Approximately 40 feet upstream of Meyers Drive | •894
City of Greenville |
Enoree River Tributary 1:
Approximately 150 feet upstream of the confluence with Enoree River | •780
Approximately 2,540 feet upstream of East Suber Road | •890
Greenville County (Unincorporated Areas), City of Greer
Enoree River Tributary 2:
Just upstream of East Suber Road | •820
Approximately 175 feet upstream of Hood Road | •903
Graze Creek:
Approximately 650 feet upstream of Brown Lane | •737
Approximately 400 feet upstream of McKinney Road | •782
Greenville County (Unincorporated Areas)
Grove Creek:
At Emily Lane | •772
Approximately 75 feet upstream of Fairview Boulevard | •848
Huff Creek:
At the confluence with Reedy River | •656
Approximately 1.25 miles upstream of West Georgia Road | •756
Laurel Creek:
At the confluence with Reedy River | •768
Approximately 200 feet upstream of Interstate 85 | •878
Greenville County (Unincorporated Areas), City of Greenville, City of Mauldin
Laurel Creek Tributary:
At the confluence with Laurel Creek | •781
Approximately 0.95 mile upstream of Ridge Road | •868
Greenville County (Unincorporated Areas), City of Greenville
Little Creek:
At the confluence with Huff Creek | •664
Approximately 3,800 feet upstream of the dam | •778
Greenville County (Unincorporated Areas)
Payne Branch:
At the county boundary | •681
Approximately 120 feet upstream of Tall Pines Road | •750
Reedy River:
Approximately 1.0 mile downstream of the confluence with Huff Creek | •650
Approximately 3,100 feet upstream of Log Shoals Road | •744
Reedy River Tributary 4:
Approximately 1,235 feet upstream of the confluence with Reedy River | •746
Approximately 175 feet upstream of Owens Lane | •903
Greenville County (Unincorporated Areas), City of Mauldin
Reedy River Tributary 5:
At the confluence with Reedy River Tributary 4 | •799
Approximately 1.26 miles upstream of Ashmore Bridge Road | •900
Richland Creek Tributary 1:
At the confluence with Richland Creek | •855
Approximately 175 feet upstream of Azalea Court | •965
City of Greenville
Richland Creek Tributary 1A:
At the confluence with Richland Creek Tributary 1 | •881
Approximately 500 feet upstream of Keith Drive | •947
Richland Creek Tributary 1B:
At the confluence with Richland Creek Tributary 1 | •960
Approximately 65 feet upstream of Greenland Drive/Dera Drive | •979
Rock Creek:
Approximately 1,050 feet downstream of Alder Drive | •743
Approximately 1,760 feet upstream of Capewood Road | •772
Greenville County (Unincorporated Areas)
Rocky Creek:
At the confluence with Enoree River | •712
Approximately 490 feet upstream of Frontage Road | •1,001
Greenville County (Unincorporated Areas), City of Greenville
South Tyger River:
Approximately 200 feet downstream of State Route 14 | •822
Approximately 180 feet upstream of State Route 414 | •928
Greenville County (Unincorporated Areas)
City of Greenville
Maps available for inspection at the Greenville City Hall, 206 South Main Street, Greenville, South Carolina.
Greenville County (Unincorporated Areas)
Maps available for inspection at the Greenville County Codes Department, 301 University Ridge, Greenville, South Carolina.
City of Greer
Maps available for inspection at the Greer City Hall, 106 South Main Street, Greer, South Carolina.
City of Mauldin
Maps available for inspection at the Mauldin City Hall, 5 East Butler Avenue, Mauldin, South Carolina.
City of Simpsonville
Maps available for inspection at the Simpsonville City Hall, 118 Northeast Main Street, Simpsonville, South Carolina.

(Catalog of Federal Domestic Assistance No. 83.100, “Flood Insurance”)
Dated: August 10, 2004.
David I. Maurstad,
Acting Director, Mitigation Division, Emergency Preparedness and Response Directorate.

[FR Doc. 04-19011 Filed 8-18-04; 8:45 am]

BILLING CODE 9110-12-P